DEPARTMENT OF COMMERCE

National Oceanic and Atmospheric Administration

Environmental Impact Statement (EIS) for the Proposed Approval of Amendments to the Alaska Coastal Management Program

AGENCY: National Ocean Service (NOS), National Oceanic and Atmospheric Administration (NOAA), U.S. Department of Commerce.

ACTION: Notice of intent to prepare an EIS; request for comments.

SUMMARY: NOAA announces its intention to prepare an EIS in accordance with the National Environmental Policy Act of 1969 for the proposed approval of amendments submitted by the State of Alaska to its Coastal Management Program. The State has adopted regulatory changes to its Process for Consistency Review (11 AAC 150), Standards for the Alaska Coastal Management Program (11 AAC 180), and Guidelines of the Alaska Coastal Management Program (11 AAC 185).

DATES: Written comments on the intent to prepare an EIS will be accepted on or before August 5, 2005. Scoping meetings are scheduled as follows:

1. July 25, 2005; 1 p.m.-5 p.m., Inupiat Heritage Center, Barrow, AK.

2. July 27, 2005; 8 a.m.-5 p.m., Egan Convention Center, Anchorage, AK.

3. July 28, 2005; 8 a.m.-5 p.m., Centennial Hall Convention Center, Juneau, AK.

ADDRESSES: Written comments on suggested alternatives and potential impacts should be sent to John R. King, Responsible Program Officer, Coastal Programs Division, Office of Ocean and Coastal Resource Management, National Ocean Service, SSMC4, Room 11305, 1305 East-West Highway, Silver Spring, MD 20910-3281, (e-mail: John.King@noaa.gov) or to Helen Bass, Environmental Protection Specialist, Coastal Programs Division, Office of Ocean and Coastal Resource Management, National Ocean Service, SSMC4, N/ORM3, Room 11207, 1305 East-West Highway, Silver Spring, MD 20910 (e-mail helen.bass@noaa.gov.)

Scoping meetings will be held as follows:

1. Open to public—Monday, July 25, 2005, Inupiat Heritage Center, 5421 North Star Street, Barrow, Alaska, 1-5 p.m.

2. Open to the public—Wednesday, July 27, 2005, Egan Room, Egan Convention Center, 555 W 5th Street, Anchorage, AK, 8 a.m. to 5 p.m.

3. Open to the public—Thursday, July 28, 2005, Centennial Hall Convention Center, 101 Egan Drive, Juneau, AK, 8 a.m. to 5 p.m.

SUPPLEMENTARY INFORMATION: In 2004, the State of Alaska adopted legislation that made substantial revisions to its federally-approved Coastal Management Program. As required under the Coastal Zone Management Act of 1972, as amended (CZMA) and OCRM regulations on amendments to approved state coastal zone management programs (15 CFR part 923, subpart H), states must submit changes to their program and its enforceable policies to OCRM for approval in order to allow continued Federal funding for program implementation and application of Federal consistency under the new enforceable policies. Consequently, Alaska worked with OCRM to submit the program changes. The proposed Federal action under the National Environmental Policy Act of 1969, as amended (NEPA), 42 USC 4321 et seq., is OCRM's approval of the incorporation of the revised program and its enforceable policies into the Alaska Coastal Management Program (ACMP)

The program changes that Alaska has adopted are substantial. The purposes behind adopting the amendments were to improve the State's consistency review process both in timing and predictability, reduce duplication of permit review with uneven application of vague standards, and provide certainty for capital commitments.

This environment impact statement evaluates alternatives and environmental consequences for only two actions that are available to OCRM: (1) Approve the program amendments as part of the State's Federally-approved coastal management program, and (2) do not approved the program amendments, or status quo. The State has already adopted these revised regulations, thus, the status quo would mean that the new statutes and regulations would not be part of the State's federally-approved coastal management program.

The purpose of the scoping meetings is to identify the scope of issues that will be addressed in the EIS and to identify potential impacts on the quality of the human environment and potential alternatives. Public participation is invited by providing written comments to NOS and attending the scoping meetings.

Special Accommodations

The meetings are physically accessible to people with disabilities. Requests for sign language interpretation or other auxiliary aids should be directed to Helen Bass at least 5 days prior to the meeting date.

Dated: June 21, 2005.
Mitchell Luxenberg,
Acting Director, Management and Budget, National Ocean Service, National Oceanic and Atmospheric Administration.

[FR Doc. 05-12630 Filed 6-23-05; 8:45 am]

BILLING CODE 3510-08-M